DEPARTMENT OF JUSTICE

Drug Enforcement Administration

Manufacturer of Controlled Substances; Notice of Registration

By Notice dated February 9, 2005, and published in the Federal Register on February 15, 2005, (70 FR 7760), Clariant LSM (Missouri) Inc., 2460 W. Bennett Street, Springfield, Missouri 65807-1229, (Mailing Address: P.O. Box 1246, Springfield, Missouri 65801) made application to the Drug Enforcement Administration (DEA) to be registered as a bulk manufacturer of Methylphenidate (1724), a basic class of controlled substance listed in Schedule II.

The company plans to manufacture the listed controlled substance in bulk for research purposes.

No comments or objections have been received. DEA has considered the factors in 21 U.S.C. 823(a) and determined that the registration of Clariant LSM (Missouri) Inc. to manufacture the listed basic class of controlled substance is consistent with the public interest at this time. DEA has investigated Clariant LSM (Missouri) Inc. to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic class of controlled substance listed.

Dated: May 25, 2005.
William J. Walker,
Deputy Assistant Administrator, Office of Diversion Control, Drug Enforcement Administration.

[FR Doc. 05-10787 Filed 5-31-05; 8:45 am]

BILLING CODE 4410-09-P